DEPARTMENT OF AGRICULTURE

Forest Service

Pike/San Isabel National Forests; Colorado; Pike/San Isabel National Forests Travel Management Plan

AGENCY: Forest Service, USDA.

ACTION: Notice of intent to prepare an environmental impact statement.

SUMMARY: The Forest Service proposes to undertake motorized travel management planning to designate roads, trails, and areas open to public motorized vehicle use on the six districts of the Pike and San Isabel National Forests (PSI), pursuant to 36 CFR part 212, subpart B. The proposed road and trail environmental impact statement (EIS) evaluation and record of decision (ROD) will determine which roads and trails will be designated or re-designated for public motorized use and published on future motor vehicle use maps (MVUMs), as described in subpart B of the Travel Management Final Rule, dated November 9, 2005. The PSI's MVUMs display all roads and motorized trails open to the public for motorized use. This action is in direct response to the PSI MVUM settlement agreement (hereafter referred to as the settlement agreement), which is the culmination of a multi-year lawsuit brought against the Forest Service by The Wilderness Society, Quiet Use Coalition, Wildlands CPR, Center for Native Ecosystems and Great Old Broads for Wilderness. The Cimarron and Comanche National Grasslands, which are administered in conjunction with the Pike and San Isabel National Forests, will not be included in this EIS.

Scoping Process: Scoping is an ongoing process used to identify important issues and determine the extent of analysis necessary for an informed decision on a proposed action. This Notice of Intent (NOI) serves as formal initiation of the scoping process.

The Forest Service is seeking comments from individuals, organizations, and local, state, and federal agencies that may be interested in or affected by the proposed action (described below). Comments may pertain to the nature and scope of the environmental, social, and economic issues, and possible alternatives related to the development of the travel management plan and EIS. Scoping notices have been sent to potentially affected persons and those that have expressed a continued interest in this project. Other interested individuals, organizations, or agencies may have their names added to the mailing list for this project at any time by submitting a request to the PSI Forest Planner, John Dow at 719-553-1476 (jrdow@fs.fed.us).

DATES: Comments concerning the scope of the analysis must be received by September 8, 2016. The scoping comment period commences on NOI publication date and continues for 45 days thereafter. The draft environmental impact statement is expected in early spring of 2018 and the final environmental impact statement is expected in early 2019.

ADDRESSES: Written comments concerning this notice should be addressed to Travel Management, Pike/San Isabel National Forests, 2840 Kachina Dr., Pueblo, CO 81008. Comments may also be sent via email to comments@psitravelmanagement.org, or via facsimile to 719-553-1440, with “PSI Travel Management” in the subject line. Comments must be readable in Microsoft Word, rich text or pdf formats.

All comments, including names and addresses when provided, are placed in the record and will be available for public inspection and copying. The public may inspect comments after they are received and summarized at the travel planning Web page at: www.psitravelmanagement.org.

FOR FURTHER INFORMATION CONTACT: John Dow, Forest Planner at 719-553-1476. Individuals who use telecommunication devices for the deaf (TDD) may call the Federal Information Relay Service (FIRS) at 1-800-877-8339 between 8 a.m. and 8 p.m., Eastern Time, Monday through Friday.

SUPPLEMENTARY INFORMATION:

Background

The current PSI Land and Resource Management Plan (Forest Plan) dates back to 1984. Many changes have occurred since that time, in terms of type and volume of use, general population pressures, urban interface development, and other factors. Further, the improved precision of field measurements (i.e., global positioning system devices) and graphical depiction of route locations and management area boundaries has at times resulted in perceived conflicts with data published in 1984.

The settlement agreement referenced herein identified a subset of MVUM designated roads and trails that were being managed contrary to Forest Plan direction. Alternatives A and B represent the issues addressed in the settlement agreement. Alternatives C and D represent issues from the settlement agreement along with revisions to certain rotues as a result of the PSI's Travel Analysis Process (TAP).

Purpose and Need for Action

The action's purpose and need is to improve management of motor vehicle use via evaluation of motorized route designations on National Forest System (NFS) lands within the PSI in compliance with 36 CFR parts 212, 251, 261, and 295, and all other applicable laws. The action also needs to consider effects on resources with the objective of minimizing the impacts resulting from the designated motorized trails and areas pursuant to 36 CFR 212.55(b), and to analyze the environmental impacts of all motorized routes proposed for designation, including routes in the baseline contested by the Plaintiffs as identified in the settlement agreement. The designation of roads and trails must balance the needs of the broad range of recreationalists and other legitimate users of the national forests with the need to protect natural and cultural resources.

Proposed Action

In accordance with 36 CFR part 212, the proposed action will analyze current designated motorized roads and trails, minus certain specific routes described in the settlement agreement. The proposed action will also analyze some priority proposed changes to the transportation system, including the inclusion of some current Forest Order transportation prohibitions associated with roads and trails on NFS lands, and including appropriate road and trail seasonal restrictions within the PSI. These analyses could result in changes to the existing transportation system on the PSI. Depending on the analyses of roads and motorized trails, i.e., which roads and trails are designated as open to the public, it may be necessary to amend the Forest Plan.

Per the settlement agreement dated November 16, 2015, the PSI transportation system that is open to public motorized travel consists of a total of 2,004 miles of NFS roads and 507 miles of NFS trails. That November 16, 2015 system is documented through USFS databases, spreadsheets, and reports, along with spatial data, and can be accessed from the travel planning Web page at: psitravelmanagement.org.

Possible Alternatives

Four preliminary alternatives have been identified and are described briefly below.

Alternative A: The No-Action Alternative, as per settlement agreement language, would consist of the public motorized routes depicted on the following MVUMs minus 30 NFS routes/route segments identified in the settlement agreement, that are either already decommissioned or would be temporarily changed to administrative use only during the interim EIS process:

• 2010 Pikes Peak Ranger District MVUM

• 2010 South Park Ranger District MVUM

• 2010 Salida Ranger District MVUM

• 2012 Leadville Ranger District MVUM

• 2012 San Carlos Ranger District MVUM

• 2013 South Platte Ranger District MVUM

Alternative B: This Alternative would consist of the public motorized routes as they are currently recorded in the official Forest Service Infrastructure (INFRA) database, as of June 16, 2016, minus routes contested by the Plaintiffs and identified in the settlement agreement.

Alternative C: This Alternative would consitutue the routes as they are currently recorded in the official Forest Service INFRA database, as of June 16, 2016, plus certain revisions to those roads that were considered as urgent, priority changes, in conformance with the results of the PSI's TAP Addendum Reports. Over the course of the last three years, PSI resource specialists conducted TAPs covering each ranger district. A TAP is a process whereby personnel representing key resource areas assign benefit and risk ratings to each road. The results of each TAP were compiled in a TAP Addendum Report. Urgent, priority changes may include, but would not be limited to: decommissioning and/or conversion of unneeded authorized routes, elimination of mixed use modes of travel on certain roads, seasonal closures, road/trail reroutes, construction of new motorized recreational trails and/or extensions to existing trails, downgrading of maintenance levels, and other such revisions necessary for the effective management of the NFS transportation network. The goal of this alternative would be to move toward a safe, affordable, and environmentally sound transportation system, while leaving room for future site-specific revisions as needed.

Alternative D: This Alternative would consist of all the Alternative C revisions, plus additional, non-urgent changes, which would direct the PSI toward the minimum NFS network needed for safe and efficient travel, and for administration, utilization, and protection of NFS lands per 36 CFR 212.5(b)(1). The additional changes would be made in accordance with the opportunities and recommendations provided in the TAP Addendum Reports for the individual districts on the PSI.

Responsible Official

The Responsible Official is Erin Connelly, Forest and Grasslands Supervisor, Pike and San Isabel National Forests and Cimarron and Comanche National Grasslands, 2840 Kachina Dr., Pueblo CO. 81008.

Scoping Process

The Forest Service will conduct scoping meetings to solicit comments from the public and interested parties on this proposed action.

Meetings are currently scheduled from 5:00 p.m. to 7:00 p.m. at the following locations and dates:

Pueblo, CO—August 23, 2016: Pueblo Community College, Fortino Ballroom (2nd floor of student center), 900 West Orman Avenue, Pueblo, CO 81004.

Salida, CO—August 24, 2016: Steam Plant Theatre and Event Center Ballroom, 220 West Sackett Street, Salida, CO 81201.

Colorado Springs, CO—August 25, 2016: Colorado Springs Utilities, Pikes Peak Room, Leon Young Service Center, 1521 S. Hancock Expressway, Colorado Springs, CO 80903.

Additional information will be posted on the travel planning Web page at: psitravelmanagement.org.

Nature of Decisions To Be Made

• Is the proposal consistent with the Pike and San Isabel National Forests and Cimarron and Comanche National Grasslands Resource Management Plan (PSICC RMP)?

• If the proposal is not consistent with the PSICC RMP, what is the scope and scale of any required amendments?

• What alternative or combination of alternatives ensures the PSI follows the requirements for multiple uses outlined in the Multiple Use Sustained Yield Act of 1960.

• What alternative or combination of alternatives best represents the designated motorized roads and trails network taking into consideration the travel management rule motorized trails and road designation criterion outlined in 36 CFR 212.55.

Preliminary Issues

Preliminary issues identified by the PSI are:

(1) Resource damage caused by user-created (non-NFS) routes;

(2) Potential lost recreational opportunities from route closures;

(3) Safety concerns on mixed-use (highway legal and non-highway legal) routes.

Dated: July 8, 2016.
Erin Connelly,
Forest and Grasslands Supervisor, Pike and San Isabel National Forests and Cimarron and Comanche National Grasslands.

[FR Doc. 2016-17498 Filed 7-22-16; 8:45 am]

BILLING CODE 3411-15-P